DEPARTMENT OF THE INTERIOR

Bureau of Land Management

[LLNVC01000.L19200000.ET0000; LRORF1709600; MO# 450010998

Notice of Proposed Withdrawal and Availability of an Associated Environmental Assessment, and Notification of Public Meeting; Nevada

AGENCY: Bureau of Land Management, Interior.

ACTION: Notice of Proposed Withdrawal

SUMMARY: In accordance with Section 204 of the Federal Land Policy and Management Act of 1976, as amended (FLPMA), the Secretary of the Interior proposes to withdraw approximately 769,724 acres of Federal land in Churchill, Lyon, Mineral, Nye, and Pershing Counties, Nevada, for up to 4 years from all forms of appropriation under the public land laws, including the mining laws, the mineral leasing laws, and the geothermal leasing laws, subject to valid existing rights. The petition/application also requests withdrawal of 68,804 acres of Federal land in the Dixie Valley Training Area from the mineral leasing laws (not currently withdrawn from these laws under Section 3016 of the National Defense Authorization Act (NDAA) for Fiscal Year 2000 (NDAA 2000), subject to valid existing rights. In compliance with the National Environmental Policy Act of 1969, as amended (NEPA), the BLM Carson City District Stillwater Field Office, Carson City, Nevada, has prepared an Environmental Assessment (EA) associated with the proposed withdrawal for Land Management Evaluation (LME) purposes, and by this Notice is announcing the EA's availability.

DATES: Comments on the proposed 4-year withdrawal including environmental consequences should be received on or before August 2, 2018. In addition, a public meeting will be held on Tuesday June 19, 2018, from 5 p.m. to 7 p.m. at the Fallon Convention Center, 100 Campus Way, Fallon, Nevada 89406 to help the public understand the proposed withdrawal and the associated decision-making process.

ADDRESSES: Comments pertaining to this Notice or the proposed withdrawal for LME purposes, including environmental issues pertaining to the proposed LME withdrawal, should be submitted by any of the following methods:

• Email: BLM_NV_FRTC@blm.gov.

• Fax: (775) 885-6147.

• Mail: BLM Carson City District, Attn: NAS Fallon FRTC, 5665 Morgan Mill Road, Carson City, NV 89701.

FOR FURTHER INFORMATION CONTACT: Colleen Dingman, BLM, Carson City District Office, 775-885-6168; address: 5665 Morgan Mill Road, Carson City, NV 89701; email: cjdingman@blm.gov. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The BLM and the Department of the Navy (DON) are engaged in evaluation of issues relating to the Navy's proposed training land range expansion and airspace modifications project of Naval Air Station Fallon, Fallon Range Training Complex, Nevada, pending the processing of the DON's application for withdrawal of Federal land for defense purposes under the Engle Act (Federal Register Notice 2016-20502) (81 FR 58919) and Federal Register Notice 2016-21213 (81 FR 60736). In accordance with Section 204 of the FLPMA, 43 U.S.C. 1714, and BLM regulations at 43 CFR part 2300, the BLM has filed a petition/application requesting the Secretary of the Interior to withdraw the area described below from all forms of appropriation under the public land laws, including the mining laws, the mineral leasing laws, and the geothermal leasing laws, for LME purposes, subject to valid existing rights, to support that evaluation. This application does not request reservation of the lands for the DON for defense purposes. The BLM's petition/application also requested the Secretary to withdraw 68,804 acres of subsurface in the Dixie Valley Training Area from the mineral leasing laws, for land management evaluation purposes, subject to valid existing rights. The BLM filed the petition/application for withdrawal from the mining laws, the mineral leasing laws, and the geothermal leasing laws, for LME purposes, subject to valid existing rights in support of possible future transfer of the lands to DON jurisdiction by Congress in accordance with an application filed by the DON (see Federal Register Notice 2016-21213) (81 FR 60736). The Secretary of the Interior therefore proposes to withdraw the lands described below in “Expansion and Land Management Evaluation,” for 4 years from operation of the public land laws, including the mining laws, the mineral leasing laws, and the geothermal leasing laws, for land management purposes, subject to valid existing rights. This notice and comment will allow opportunity for the BLM to receive input from the State of Nevada, potential stakeholders, and the local community in order to adequately address potential concerns about the overall size of the withdrawal expansion and the potential impacts to existing multiple uses and resources, including but not limited to critical and other minerals, geothermal resources, livestock grazing, and recreational access.

The “Expansion and Land Management Evaluation” proposal would withdraw the following areas in Churchill, Lyon, Pershing, Mineral, and Nye Counties, Nevada, subject to valid existing rights as described below:

The areas B-16, B-17, B-20 and the Dixie Valley Training Area aggregate 769,724 acres. Portions of these lands are unsurveyed and the acres were obtained from protraction diagrams information or calculated using Geographic Information System.

Mount Diablo Meridian, Nevada

B-16

Bureau of Land Management

T. 16 N., R. 26 E.,

Sec. 1, lots 1 thru 4;

Sec. 2, lots 1 and 2.

T. 17 N., R. 26 E., partly unsurveyed,

Secs. 1, 2, and 11 thru 13;

Sec. 14, E½;

Sec. 23, E½;

Secs. 24 and 25;

Sec. 26, E½;

Sec. 35, E½;

Sec. 36.

T. 18 N., R. 26 E.,

Sec. 35, S½;

Sec. 36.

T. 16 N., R. 27 E.,

Sec. 1, lots 1 thru 5, SW¼NE¼, S½NW¼, N½SW¼, and SW¼SW¼;

Secs. 2 and 3;

Sec. 4, lots 1 thru 4, S½NE¼, S½NW¼, N½SW¼, and N½SE¼;

Sec. 5, lots 1 thru 4, S½NE¼, S½NW¼, SW¼, and N½SE¼;

Sec. 6, lots 1 thru 5, S½NE¼, NE¼SE¼, and E½SE¼SE¼.

T. 17 N., R. 27 E., partly unsurveyed,

Secs. 4 thru 10;

Sec. 11, W½;

Sec. 14, W½;

Secs. 15 thru 22 and 27 thru 34.

T. 18 N., R. 27 E.,

Secs. 27 thru 34;

Sec. 35, W½.

T. 16 N., R. 28 E., partly unsurveyed,

Sec. 5, lots 1 thru 4, S½NE¼ and S½NW¼;

Sec. 6, lots 1 thru 5, SE¼NW¼ and S½NE¼.

The area described for B-16 aggregates 32,201.17 acres in Churchill and Lyon Counties.

B-17

Bureau of Land Management

T. 13 N., R. 32 E.,

Sec. 1, except patented lands.

T. 14 N., R. 32 E., unsurveyed,

Secs. 1 thru 3, 10 thru 15, 22 thru 26, 35, and 36.

T. 15 N., R. 32 E., unsurveyed,

Secs. 25, 26, 35, and 36.

T. 12 N., R. 33 E.,

Secs. 1 thru 8;

Sec 9, N½, N½SW¼, SW¼SW¼, N½SE¼, and SE¼SE¼;

Secs. 10 thru 15;

Sec 16, W½SW¼;

Secs. 17, 18, and 20 thru 24.

Tps. 13 and 14 N., R. 33 E., unsurveyed.

T. 15 N., R. 33 E., partly unsurveyed,

Sec. 6, that portion west of the easterly right-of-way boundary for State Route 839;

Sec. 7, that portion west of the easterly right-of-way boundary for State Route 839;

Sec. 18, that portion west of the easterly right-of-way boundary for State Route 839;

Sec. 19, that portion west of the easterly right-of-way boundary for State Route 839;

Secs. 29 thru 34.

T. 11 N., R. 34 E.,

Secs. 1 thru 3;

Sec. 4, lot 4, S½SE¼, SW¼NW¼, NW¼SW¼ and S½SW¼;

Sec. 5;

Sec. 6, lots 1 and 2, S½NE¼ and SE¼;

Secs. 9 thru 12;

Sec. 13, N½;

Sec. 14, N½;

Sec. 15, N½;

Sec. 16, N½.

T. 12 N., R. 34 E.,

Secs. 1 thru 5;

Sec. 6, lots 1 and 3 thru 7, SE¼NE¼, SE¼NW¼, E½SW¼, and S½SE¼;

Sec. 7, lots 1, 2, and 4, E½, E½NW¼, and SE¼SW¼;

Secs. 8 thru 27;

Sec. 28, NE¼, N½NW¼, SW¼NW¼, S½SW¼, and E½SE¼;

Sec. 29, N½, SW¼, W½SE¼, and SE¼SE¼;

Sec. 30;

Sec. 31, E½;

Sec. 32;

Sec. 33, E½NE¼ and NW¼;

Secs. 34 thru 36;

Tps. 13 and 14 N., R. 34 E., unsurveyed.

T. 15 N., R. 34 E., partly unsurveyed,

Secs. 1 thru 3;

Sec. 4, lots 1 thru 3, E½SW¼, and SE¼;

Sec. 9, E½, E½NW¼, and E½SW¼;

Secs. 10 thru 15;

Sec. 16, E½, E½NW¼, and E½SW¼;

Sec. 21, E½, E½NW¼, E½SW¼, and SW¼SW¼;

Secs. 22 thru 28 and 32 thru 36.

T. 16 N., R. 34 E., partly unsurveyed,

Sec. 15, lots 1 and 2, N½, SE¼, and E½SW¼;

Sec. 16, lots 1 thru 8 and 13, NE¼NE¼, and SW¼SE¼;

Sec. 21, lot 1, E½NE¼, SW¼NE¼, and SE¼;

Secs. 22 thru 23 and 25 thru 27;

Sec. 28, E½;

Sec. 33, E½;

Secs. 34 thru 36.

T. 11 N., R. 35 E.,

Sec. 4, lots 3 and 4, SW¼ and S½NW¼;

Secs. 5 thru 7;

Sec. 8, W½.

T. 12 N., R. 35 E.,

Sec. 1 thru 12;

Sec. 13, W½;

Secs. 14 thru 23;

Sec. 26, N½;

Secs. 27 thru 33;

Sec. 34, N½.

T. 13 N., R. 35 E., unsurveyed,

Secs. 1 thru 3;

Secs. 4, W½ and E½;

Secs. 5 thru 8;

Sec. 9, NE¼, NW¼, and S½;

Secs. 10 thru 36;

T. 14 N., R. 35 E., unsurveyed,

Sec. 2, W½;

Sec, 3;

Sec. 4, W½ and E½;

Secs. 5 thru 8;

Sec. 9, NW¼ and that portion lying east of the westerly right-of-way line of State Route 361;

Secs. 10 and 11;

Sec. 13, W½;

Secs. 14 and 15;

Sec. 16, that portion lying east of the westerly right-of-way line of State Route 361;

Secs. 17 thru 20;

Sec. 21, that portion lying east of the westerly right-of-way line of State Route 361;

Sec. 22 thru 27;

Sec. 28, W½NE¼, E½NE¼, W½, W½SE¼, and E½SE¼;

Secs. 29 thru 32;

Sec. 33, W½NE¼, W½, and W½SE¼;

Secs. 34 thru 36.

T. 15 N., R. 35 E., unsurveyed,

Secs. 6 thru 8 and 17 thru 20;

Sec. 28, W½ and SE¼;

Secs. 29 thru 32;

Sec. 33, W½ and E½;

Sec. 34.

T. 16 N., R. 35 E.,

Sec. 31.

T. 12 N., R. 36 E.,

Sec. 6, lots 3 thru 7, SE¼NW¼ and E½SW¼.

T. 13 N., R. 36 E., unsurveyed,

Sec. 6, W½;

Sec. 7;

Sec. 18 and 19;

Sec. 30;

Sec. 31, W½.

T. 14 N., R. 36 E., unsurveyed,

Sec. 31, W½.

The area described for B-17 aggregates 253,089.11 acres in Churchill, Nye, and Mineral Counties.

Non-Federally Owned Lands

T. 13 N., R. 32 E., partly unsurveyed,

A portion of M.S. No. 4773 (Viking's Daughter, Turtle, Tungsten, and Don).

T. 12 N., R. 33 E.,

Sec. 9, SE¼SW¼ and SW¼SE¼;

Sec. 16, N½, E½SW¼, and SE¼.

T. 11 N., R. 34 E.,

Sec. 4, lots 1 thru 3, S½NE¼, SE¼NW¼, N½SE¼ and NE¼SW¼;

T. 12 N., R. 34 E.,

Sec. 6, lot 2, SW¼NE¼, and N½SE¼;

Sec. 7, lot 3 and NE¼SW¼;

Sec. 28, SE¼NW¼, W½SE¼, and N½SW¼;

Sec. 29, NE¼SE¼;

Sec. 33, W½NE¼ and S½.

T. 16 N., R. 34 E., partly unsurveyed,

A portion of M.S. No. 4184 (Eva B, Eva B No. 2, Argel No. 1, Argel No. 2, Argel No. 3, and Prince Albert Lodes);

A portion of M.S. No. 3927 (Lookout No. 11 Lode).

The area described for B-17 aggregates 2,037 acres in Churchill, Nye, and Mineral Counties.

B-20

Bureau of Land Management

T. 24 N., R. 31 E.,

Secs. 2, 4, 8, 10, 12, 14, 16, 18, 20, 22, 28, and 30.

T. 25 N., R. 31 E.,

Secs. 34 and 36.

T. 24 N., R. 32 E.,

Secs. 2, 4, 6, 8, 10, 12, 14, 16, and 18.

T. 25 N., R. 32 E.,

Secs. 10, 12, and 14;

Sec. 15, SE¼NE¼, NE¼SE¼, and SE¼SE¼;

Secs. 16, 20, 22, 24, 26, 28, 32, 34, and 36.

T. 22 N., R. 33 E.,

Secs. 4, 5, and 8.

T. 23 N., R. 33 E.,

Secs. 2, 4, 10, 11, 14 thru 16, 21, 22, 27, 28, and 32 thru 34.

T. 24 N., R. 33 E.,

Secs. 2, 4, 6, 8, 10, 12, 14, 16, 18, 22, 24, 26, 28, 34, and 36.

T. 25 N., R. 33 E.,

Secs. 6, 8, 16, 18, 20, 22, 26, 28, 30, 32, and 34.

The area described for B-20 aggregates 49,986.79 acres in Churchill and Pershing Counties.

Bureau of Reclamation

T. 22 N., R. 30 E.,

Secs. 12 and 24.

T. 23 N., R. 30 E.,

Secs. 25, 35, and 36.

T. 22 N., R. 31 E.,

Secs. 2, 4, 6, 8, 10, 12, 14, 16, 18, 20, 22, 24, 26, 28, 30, 32 thru 34, and 36.

T. 23 N., R. 31 E.,

Secs. 1 thru 4;

Sec. 5, S½;

Secs. 6 thru 36.

T. 24 N., R. 31 E.,

Secs. 24, 26, 32, 34, and 36.

T. 22 N., R. 32 E.,

Secs. 1, 2, 4, 6, and 8;

Sec. 9, E½;

Secs. 10 thru 16, 18, and 20 thru 36.

T. 23 N., R. 32 E.,

Secs. 32, and 34 thru 36.

T. 22 N., R. 33 E.,

Secs. 6, 7, and 18.

T. 23 N., R. 33 E.,

Sec. 31.

The area described for B-20 aggregates 65,375.88 acres in Churchill County.

Fish and Wildlife Service

T. 22 N., R. 30 E.,

Secs. 2, 10, 14, 22, and 26.

The area described for B-20 aggregates 3,201.00 acres in Churchill County.

Non-Federally Owned Lands

T. 22 N., R. 30 E.,

Secs. 1, 11, 13, 15, 23, and 25.

T. 22 N., R. 31 E.,

Secs. 1, 3, 5, 7, 9, 11, 13, 15, 17, 19, 21, 23, 25, 27, 29, 31, and 35.

T. 23 N., R. 31 E.,

Sec. 5, lots 1 thru 4, S½NE¼ and S½NW¼.

T. 24 N., R. 31 E.,

Secs. 1, 3, 9, 11, 13, 15, 17, 19, 21, 23, 25, 27, 29, 31, 33, and 35.

T. 25 N., R. 31 E.,

Sec. 35.

T. 22 N., R. 32 E.,

Secs. 3, 5, and 7;

Sec. 9, W½;

Secs. 17 and 19.

T. 23 N., R. 32 E.,

Secs. 31 and 33.

T. 24 N., R. 32 E.,

Secs. 1, 3, 5, 7, 9, 11, 13, 15, and 17.

T. 25 N., R. 32 E.,

Secs. 1, 11 and 13;

Sec 15, N½NE¼, SW¼NE¼, W½ and W½SE¼;

Secs. 21, 23, 25, 27, 29, 31, 33 and 35.

T. 23 N., R. 33 E.,

Secs. 3 and 9.

T. 24 N., R. 33 E.,

Secs. 1, 3, 5, 7, 9, 11, 13, 15, 17, 21, 23, 25, 27, 33, and 35.

T. 25 N., R. 33 E

Secs. 5, 7, 15, 17, 19, 21, 27, 29, 31, 33, and 35.

The area described for B-20 aggregates 61,764.88 acres in Churchill and Pershing Counties.

Dixie Valley Training Area

Bureau of Land Management

T. 13 N., R. 32 E.,

Sec. 2;

Sec. 3, lots 1 thru 4, S½NE¼, S½NW¼, and SE¼;

Sec. 4, lots 1 and 2 and S½NE¼;

Sec. 11;

Sec. 12, except patented lands;

Secs. 13 and 24.

T. 14 N., R. 32 E., unsurveyed,

Secs. 4, 5, 8, 9, and 16;

Sec. 21, E½;

Sec. 27;

Sec. 28, E½;

Sec. 33, E½;

Sec. 34.

T. 15 N., R. 32 E., unsurveyed,

Secs. 1 and 2;

Sec. 3, except lands withdrawn under PLO 2771 and PLO 2834, “Shoal Site”;

Sec. 5, except lands withdrawn under PLO 2771 and PLO 2834, “Shoal Site”;

Sec. 8, except lands withdrawn under PLO 2771 and PLO 2834, “Shoal Site”;

Sec. 9, except lands withdrawn under PLO 2771 and PLO 2834, “Shoal Site”;

Sec. 10, except lands withdrawn under PLO 2771 and PLO 2834, “Shoal Site”;

Secs. 11 thru 17, 20 thru 24, 27 thru 29, and 32 thru 34.

T. 16 N., R. 32 E.,

Secs. 13 and 14, 23 thru 26, 35, and 36.

T. 17 N., R. 32 E., partly unsurveyed,

Sec. 1, E½;

Sec. 12, E½.

T. 18 N., R. 32 E., unsurveyed,

Secs. 1, 12, 13, 24, 25, and 36.

T. 19 N., R. 32 E., unsurveyed,

Secs. 13, 24, 25, and 36.

T. 16 N., R. 33 E.,

Sec. 1, that portion north of the southerly right-of-way boundary and south of the northerly right-of-way boundary for U.S. Highway 50;

Sec. 2, that portion north of the southerly right-of-way boundary and south of the northerly right-of-way boundary for U.S. Highway 50;

Sec. 3, that portion north of the southerly right-of-way boundary and south of the northerly right-of-way boundary for U.S. Highway 50, except patented lands;

Sec. 4, that portion north of the southerly right-of-way boundary and south of the northerly right-of-way boundary for U.S. Highway 50;

Sec. 5, that portion north of the southerly right-of-way boundary and south of the northerly right-of-way boundary for U.S. Highway 50;

Sec. 17, that portion west of the easterly right-of-way boundary for State Route 839;

Sec. 18, that portion west of the easterly right-of-way boundary for State Route 839;

Sec. 19, that portion west of the easterly right-of-way boundary for State Route 839;

Sec. 30, that portion west of the easterly right-of-way boundary for State Route 839;

Sec. 31, that portion west of the easterly right-of-way boundary for State Route 839;

Sec. 32, that portion west of the easterly right-of-way boundary for State Route 839.

T. 17 N., R. 33 E.,

Secs. 6 and 7.

T. 18 N., R. 33 E., unsurveyed,

Secs. 1, 2, and 4 thru 8;

Sec. 9, W½;

Sec. 10, that portion north of Elevenmile Canyon Wash;

Secs. 11 and 12;

Sec. 13, that portion north of Elevenmile Canyon Wash;

Sec. 14, that portion north of Elevenmile Canyon Wash;

Sec. 16, W½;

Secs. 17 thru 20;

Sec. 29, W½;

Secs. 30 and 31.

T. 19 N., R. 33 E., unsurveyed,

Sec. 19;

Sec. 20, N½, SW¼, and SE¼;

Sec. 21 thru 27;

Sec. 28, W½ and E½;

Secs. 29 thru 36.

T. 20 N., R. 33 E., unsurveyed,

Sec. 1, N½, SW¼, and SE¼;

Secs. 2 thru 8;

Sec. 9, NE¼, NW¼, and S½;

Sec. 10, N½ and S½;

Sec. 11, NE¼, NW¼, and S½.

T. 21 N., R. 33 E.,

Secs. 1 thru 3;

Sec. 9, E½;

Secs. 10 thru 16;

Sec. 20, E½;

Secs. 21 and 22;

Sec. 23, except patented lands;

Sec. 24, except patented lands;

Secs. 25 thru 29;

Sec. 31, E½;

Secs. 32 thru 36.

T. 16 N., 33 ½E.,

Sec. 1, that portion north of the southerly right-of-way boundary and south of the northerly right-of-way boundary for U.S. Highway 50;

T. 18 N., R. 33 ½ E.,

Secs. 1 and 12;

Sec. 13, that portion north of Elevenmile Canyon Wash;

Sec. 24, that portion north of Elevenmile Canyon Wash.

T. 19 N., R. 33 ½ E., unsurveyed,

Secs. 24, 25, and 36.

T. 20 N., R. 33 ½ E., unsurveyed,

Sec. 1, N½ and S½;

Sec. 12.

T. 16 N., R. 34 E., partly unsurveyed,

Secs. 1 thru 3;

Sec. 4, lots 1, 2, and 9 thru 12, and SE¼;

Sec. 5, that portion north of the southerly right-of-way boundary and south of the northerly right-of-way boundary for U.S. Highway 50;

Sec. 6, that portion north of the southerly right-of-way boundary and south of the northerly right-of-way boundary for U.S. Highway 50;

Sec. 9, lots 2 and 6, NE¼, and E½SE¼;

Secs. 10 thru 14 and 24.

T. 17 N., R. 34 E.,

Secs. 1 and 2;

Sec. 3, lots 1 and 2, S½NE¼, and SE¼;

Sec. 10, E½;

Secs. 11 thru 13;

Sec. 14, lots 1 thru 4, N½, N½SW¼, and E½SE¼;

Sec. 15, E½;

Sec. 22, E½;

Sec. 23, lots 1 thru 3, E½NE¼, SW¼NE¼, S½NW¼, and S½;

Secs. 24 thru 26;

Sec. 27, E½;

Sec. 34, E½;

Secs. 35 and 36.

T. 18 N., R. 34 E.,

Secs. 1 and 2;

Sec. 4, that portion west of the easterly right-of-way boundary for State Route 121;

Secs. 5 thru 8;

Sec. 9, that portion west of the easterly right-of-way boundary for State Route 121;

Secs. 11 thru 14;

Sec. 16, that portion west of the easterly right-of-way boundary for State Route 121;

Secs. 17 and 18;

Sec. 19, that portion north of Elevenmile Canyon Wash;

Sec. 20, that portion north of Elevenmile Canyon Wash;

Sec. 21, that portion west of the easterly right-of-way boundary for State Route 121 and north of Elevenmile Canyon Wash;

Secs. 23 thru 26, 35, and 36.

T. 19 N., R. 34 E.,

Secs. 1 and 2;

Sec. 4, that portion west of the easterly right-of-way boundary for State Route 121;

Secs. 5 thru 8;

Sec. 9, that portion west of the easterly right-of-way boundary for State Route 121;

Secs. 11 thru 14;

Sec. 16, that portion west of the easterly right-of-way boundary for State Route 121;

Secs. 17 thru 20;

Sec. 21, that portion west of the easterly right-of-way boundary for State Route 121;

Secs. 23 and 24;

Sec. 25, lots 1 thru 9, N½NE¼, SW¼NE¼, NW¼, and NW¼SE¼;

Sec. 26, lots 1 thru 5, N½NE¼, SE¼NE¼, and W½;

Sec. 28, that portion west of the easterly right-of-way boundary for State Route 121;

Secs. 29 thru 32;

Sec. 33, that portion west of the easterly right-of-way boundary for State Route 121;

Sec. 35, lot 1, W½NE¼, SE¼NE¼, W½, and SE¼;

Sec. 36, lots 1 thru 11, SW¼NE¼, S½NW¼, and SW¼.

T. 20 N., R. 34 E., partly unsurveyed,

Sec. 1;

Sec. 2, lot 1, SE¼NE¼, and E½SE¼;

Sec. 3, lots 2 thru 4, SW¼NE¼, S½NW¼, SW¼, and W½SE¼;

Secs. 4 and 5;

Sec. 6, N½ and S½;

Secs. 7 thru 9;

Sec. 10, W½NE¼, W½, and W½SE¼;

Sec. 11, E½NE¼ and E½SE¼;

Secs. 12 and 13;

Sec. 14, E½NE¼ and E½SE¼;

Sec. 15, W½NE¼, W½, and W½SE¼;

Secs. 16, 17, 20 and 21;

Sec. 22, W½NE¼, W½, and W½SE¼;

Sec. 23, E½NE¼ and E½SE¼;

Secs. 24 and 25;

Sec. 26, E½NE¼ and E½SE¼;

Sec. 28, that portion west of the easterly right-of-way boundary for State Route 121;

Secs. 29 thru 32;

Sec. 33, that portion west of the easterly right-of-way boundary for State Route 121;

Secs. 35 and 36.

T. 21 N., R. 34 E.,

Sec. 1, lots 1 thru 7, SW¼NE¼, S½NW¼, and W½SE¼;

Secs. 2 thru 18

Sec. 19, except patented lands;

Secs. 20 thru 23 and 26;

Sec. 27, N½, N½SW¼, SW¼SW¼, N½SE¼SW¼, W½SW¼SE¼SW¼, SE¼SW¼SE¼SW¼, SE¼SE¼SW¼, and SE¼;

Secs. 28 thru 33;

Sec. 34, W½.

T. 22 N., R. 34 E., unsurveyed,

Secs. 34, 35, and 36.

T. 15 N., R. 35 E., unsurveyed,

Sec. 5.

T. 16 N., R. 35 E.,

Secs. 5 thru 8, 17 thru 20, 29, 30, and 32.

T. 17 N., R. 35 E.,

Secs. 2 thru 10;

Sec. 11, W½;

Sec. 15, N½;

Secs. 16 thru 20;

Sec. 21, N½ and SW¼;

Secs. 29 thru 32.

T. 18 N., R. 35 E., unsurveyed,

Secs. 1 thru 3;

Sec. 4, except patented lands;

Sec. 5, except patented lands;

Sec. 6, except patented lands;

Sec. 7;

Sec. 8, except patented lands;

Sec. 9, except patented lands;

Secs. 10 thru 24 and 26 thru 35.

T. 19 N., R. 35 E.,

Sec. 2;

Sec. 3, lots 1 thru 4, S½NE¼, S½NW¼, SW¼, N½SE¼, NE¼SW¼SE¼, N½NW¼SW¼SE¼, E½SE¼SE¼, NW¼SE¼SE¼, N½SW¼SE¼SE¼, and SE¼SW¼SE¼SE¼;

Secs. 4 thru 9;

Sec. 10, S½SW¼NE¼NE¼, S½SE¼NE¼NE¼, S½NE¼NW¼NE¼, S½NW¼NW¼NE¼, S½NW¼NE¼, S½NE¼, W½, and SE¼;

Sec. 11, NE¼, E½SE¼NE¼NW¼, NW¼NW¼NW¼, S½SW¼NW¼NW¼, S½SE¼NW¼NW¼, SW¼NW¼, NE¼NE¼SW¼, SE¼NW¼NE¼SW¼, N½SE¼NE¼SW¼, SE¼SE¼NE¼SW¼, W½SW¼, S½NE¼SE¼SW¼, S½NW¼SE¼SW¼, S½SE¼SW¼, N½NE¼SE¼, N½SW¼NE¼SE¼, N½SE¼NE¼SE¼, N½NW¼SE¼, W½SW¼NW¼SE¼, N½SE¼NW¼SE¼, S½SW¼SE¼ and S½SE¼SE¼;

Sec. 12, S½SW¼SW¼;

Secs. 13 thru 29;

Sec. 30, lots 1 thru 6, E½, and E½NW¼;

Sec. 31, lots 1 thru 7, NE¼, E½SW¼, N½SE¼, and SW¼SE¼;

Sec. 32, lots 1 thru 8, NW¼, and N½SW¼;

Sec. 33, lots 1 thru 9, E½NE¼, and SE¼;

Secs. 34 thru 36.

T. 20 N., R. 35 E., unsurveyed,

Secs. 3 thru 10, 14 thru 23, and 26 thru 35.

T. 21 N., R. 35 E.,

Secs. 1 thru 3;

Sec. 4, lots 3 thru 8 and S½NW¼;

Sec. 5, lots 1 thru 4, S½NE¼, and S½NW¼;

Secs. 6 and 7;

Sec. 10, N½;

Sec. 11, W½;

Secs. 12;

Sec. 13, except lot 16 that portion lying south of the southerly line of the dirt road;

Sec. 14, NE¼ and S½;

Sec. 15, S½NE¼, S½NW¼ and SE¼;

Sec. 16, SE¼;

Sec. 17, W½;

Sec. 19, lots 5 thru 15;

Sec. 20, W½ and SE¼SE¼;

Sec. 21, E½ and SW¼;

Sec. 22, E½ and SW¼;

Sec. 23;

Sec. 24, except lots 1 and 2 that portion lying south of the southerly line of the dirt road, and lots 7 thru 10, 15, and 16.

Sec. 25, lots 3 thru 6 and 11 thru 14;

Secs. 26 thru 35;

Sec. 36, lots 3 thru 6 and 9 thru 12.

T. 22 N., R. 35 E.,

Secs. 31 thru 36.

T. 19 N., R. 36 E.,

Sec. 19, lots 1 thru 4, E½NW¼, and E½SW¼;

Sec. 30, lots 1 thru 3, NE¼, E½NW¼, NE¼SW¼, N½SE¼, and SE¼SE¼;

Sec. 31, lot 4, E½, and E½SW¼.

T. 21 N., R. 36 E.,

Sec. 2 thru 9;

Secs. 16 thru 20, except that portion lying south of the southerly line of the dirt road.

T. 22 N., R. 36 E.,

Secs. 31 thru 35.

The area described for Dixie Valley Training Area aggregates 290,987.39 acres in Churchill and Mineral Counties.

Department of Navy-Managed Lands Not Withdrawn From the Public Domain

T. 20 N., R. 34 E.,

Sec. 14, W½NE¼, W½, and W½SE¼;

Sec. 15, E½NE¼ and E½SE¼;

Sec. 22, E½NE¼ and E½SE¼;

Sec. 23, W½NE¼, W½ and W½SE¼.

T. 21 N., R. 34 E.,

Sec. 1, SW¼;

Sec. 24;

Sec. 25, lots 3 and 4, SW¼, and W½SE¼;

Sec. 34, E½;

Secs. 35 and 36.

T. 19 N., R. 35 E.,

Sec. 3, S½NW¼SW¼SE¼, S½SW¼SE¼, and SW¼SW¼SE¼SE¼;

Sec. 10, N½NE¼NE¼, N½SW¼NE¼NE¼, N½SE¼NE¼NE¼, N½NE¼NW¼NE¼, and N½NW¼NW¼NE¼;

Sec. 11, N½NE¼NW¼, SW¼NE¼NW¼, W½SE¼NE¼NW¼, NE¼NW¼NW¼, N½SW¼NW¼NW¼, N½SE¼NW¼NW¼, SE¼NW¼, N½NW¼NE¼SW¼, SW¼NW¼NE¼SW¼, SW¼NE¼SW¼, SW¼SE¼NE¼SW¼, N½NE¼SE¼SW¼, N½NW¼SE¼SW¼, S½SW¼NE¼SE¼, S½SE¼NE¼SE¼, E½SW¼NW¼SE¼, S½SE¼NW¼SE¼, N½SW¼SE¼, N½SE¼SE¼, and SW¼SE¼NE¼SW¼.

T. 21 N., R. 35 E.,

Sec. 4, W½SW¼, SE¼SW¼, and SE¼;

Sec. 5, S½;

Sec. 8, N½, NW¼SW¼, and SE¼;

Sec. 9, N½, SW¼, N½NE¼SE¼, N½NW¼SE¼, SW¼NW¼SE¼, W½SE¼NW¼SE¼, W½NE¼SW¼SE¼, SE¼NE¼SW¼SE¼, W½SW¼SE¼, SE¼SW¼SE¼, S½NE¼SE¼SE¼, S½NW¼SE¼SE¼, and S½SE¼SE¼;

Sec. 10, S½;

Sec. 14, NW¼;

Sec. 15, N½NE¼, N½NW¼, and SW¼;

Sec. 16, N½ and SW¼;

Sec. 17, E½;

Sec. 18, lots 1 thru 4, E½NW¼, E½SW¼, W½SE¼, and NE¼SE¼ except Parcel 1 of Logan Turley Parcel Map, filed in the office of the County Recorder of Churchill County of July 9, 1979, under filing number 165908;

Sec. 19, lots 1 and 2, NW¼NE¼, and E½NW¼;

Sec. 20, NE¼, N½SE¼, and SW¼SE¼;

Sec. 21, NW¼;

Sec. 22, NW¼.

The area described for Dixie Valley Training Area aggregates 8,722.47 acres in Churchill, and Mineral Counties.

Non-Federally Owned Lands

T. 13 N., R. 32 E.,

A portion of M.S. No. 4773A (Don and Tungsten No. 1 Lodes).

T. 16 N., R. 33 E.,

Sec. 3, the right-of-way for U.S. Highway 50, as described in deed recorded July 27, 1934, Book 20, Deed Records, page 353, Doc. No. 48379 of Churchill County, NV.

T. 21 N., R. 33 E.,

M.S. No. 1877 (IXL, 1st Ext. IXL, Black Prince, 1st Ext. Black Prince, Twin Sister and Twin Sister No. 2 Lodes);

M.S. No. 1936 A (Bonanza);

M.S. No. 1937 (Spring Mine).

T. 16 N., R. 34 E.,

A portion of M.S. No. 3630 (Kimberly No. 3 and Kimberly No. 4 Lodes).

T. 17 N., R. 34 E.,

M.S. No. 4180 (Copper King, Central and Horn Silver Lodes).

T. 19 N., R. 34 E.,

M.S. No. 3064 (Spider, Wasp, Tony Pah, Long Nel and Last Chance Lodes);

A portion of M.S. No. 3122 (Great Eastern No. 1, Great Eastern No. 3 and Great Eastern No. 4 Lodes);

A portion of M.S. No. 3398 (Nevadan, Little Witch, Silver Tip, Valley View and Panhandle Lodes);

M.S. No. 3424 (Bumblebee, Grey Horse, Grey Horse No. 2, Grey Horse No. 1, Triangle Fraction and Kingstone Lodes);

M.S. No. 3885 (Last Chord, King Midas, King Midas No. 1, King Midas No. 2 and King Midas No. 3 Lodes).

T. 21 N., R. 34 E.,

Sec. 27, NE¼SW¼SE¼SW¼ (Dixie Cemetery).

T. 18 N., R. 35 E., unsurveyed,

M.S. No. 2954 (Blue Jay Lode);

M.S. No. 3070 (Mars Lode);

M.S. No. 3071 (Scorpion Lode);

M.S. No. 3072 (B. and S. Lode);

M.S. No. 3078 (Nevada Wonder Lode);

M.S. No. 3079 (Ruby No. 1 Lode);

M.S. No. 3123 (Last Chance Lode);

M.S. No. 3124 (Last Chance No. 1 Lode);

M.S. No. 3325 (Nevada Wonder No. 2 Lode);

M.S. No. 3326 (Last Chance No. 2 Lode);

M.S. No. 3327 (Nevada Wonder No. 1, Ruby and Ruby No. 2 Lodes);

M.S. No. 3416 (Starr Lode);

M.S. No. 3417 (Moss Fraction Lode);

A portion of M.S. No. 3671 (Gold Dawn No. 1, Gold Dawn No. 2, Gold Dawn No. 3 and Gold Dawn No. 6 Lodes);

A portion of M.S. No. 3750 (Hercules, Jackrabbit, Hilltop and Hercules No. 2 Lodes);

M.S. No. 4225 (Nevada Wonder No. 3 Lode);

M.S. No. 4226 (Hidden Treasure, Hidden Treasure No. 1 and Hidden Treasure No. 2 Lodes);

M.S. No. 4227 (North Star, Rose No. 1, Twilight No. 2 and Twilight No. 3 Lodes);

Wonder Townsite, (Patent No. 214499, July 3, 1911);

Wonder Townsite, Blocks 31 and 42.

T. 19 N., R. 35 E.,

M.S. No. 2826 (Jackpot and Grand View Lodes);

A portion of M.S. No. 3122 (Great Eastern, Great Eastern No. 1, Great Eastern No. 3, Great Eastern No. 4 and Great Eastern Fraction Lodes);

A portion of M.S. No. 3398 (Little Witch, Silver Tip, Valley View, Pan Handle and Yellow Jacket Lodes);

M.S. No. 3671 (Gold Dawn No. 1, Gold Dawn No. 2 and Gold Dawn No. 3 Lodes);

M.S. No. 3732 (Gold Bar No. 4, New York No. 2 and Blister Foot Lodes);

A portion of M.S. No. 3750 (Hilltop Fraction, Hercules, Hercules No. 2, Hercules No. 3, Hilltop, Jackrabbit, Worm, Beauty, Lizard No. 1 and Grand View Fraction Lodes);

M.S. No. 3786 (Queen, Queen No. 1, Queen No. 4, Queen No. 5, Queen No. 7, Queen No. 8, Queen No. 9, Queen No. 10, Queen No. 11, Queen Bee and Great Bend Lodes).

T. 21 N., R. 35 E.,

Sec. 4, NE¼SW¼;

Sec. 8, E½SW¼ and SW¼SW¼;

Sec. 9, S½NE¼SE¼, E½SE¼NW¼SE¼, NE¼NE¼SW¼SE¼, N½NE¼SE¼SE¼, and N½NW¼SE¼SE¼;

Sec. 11, E½;

Sec. 18, a portion of NE¼SE¼ being Parcel 1 of Logan Turley Parcel Map, filed in the office of the County Recorder of Churchill County of July 9, 1979, under filing number 165908.

T. 19 N., R. 36 E.,

Sec. 30, lot 4, SE¼SW¼, and SW¼SE¼;

Sec. 31, lots 1 thru 3 and E½NW¼.

The area described for Dixie Valley Training Area aggregates 2,358.28 acres in Churchill and Mineral Counties.

Portions of the Dixie Valley Training Area which are segregated from operation of the mineral leasing laws, subject to valid existing rights, are described below. Portions of these lands are unsurveyed and the acres were obtained from protraction diagrams information or calculated using Geographic Information System.

Mount Diablo Meridian, Nevada

Dixie Valley Training Area

Bureau of Land Management

T. 16 N, R. 33 E,

Sec. 1, that portion north of the northerly right-of-way boundary for U.S. Highway 50;

Sec. 2, that portion north of the northerly right-of-way boundary for U.S. Highway 50;

Sec. 3, that portion north of the northerly right-of-way boundary for U.S. Highway 50, except patented lands;

Sec. 4, that portion north of the northerly right-of-way boundary for U.S. Highway 50;

Sec. 5, that portion north of the northerly right-of-way boundary for U.S. Highway 50.

T. 17 N, R. 33 E,

Secs. 1 thru 5, 8 thru 17, 20 thru 29 and 32 thru 36.

T. 18 N, R. 33 E, unsurveyed,

Sec. 9, E½;

Sec. 10, that portion south of Elevenmile Canyon Wash;

Sec. 13, that portion south of Elevenmile Canyon Wash;

Sec. 14, that portion south of Elevenmile Canyon Wash;

Sec. 15;

Sec. 16, E½;

Secs. 21 thru 28;

Sec. 29, E½;

Secs. 32 thru 36.

T. 16 N, R. 33 ½ E, unsurveyed,

Sec. 1, that portion north of the northerly right-of-way boundary for U.S. Highway 50.

T. 17 N, R. 33 ½ E.

T. 18 N, R. 33 ½ E,

Sec. 13, that portion south of Elevenmile Canyon Wash;

Sec. 24, that portion south of Elevenmile Canyon Wash;

Secs. 25 and 36.

T. 16 N, R. 34 E, partly unsurveyed,

Sec. 4, lots 3 and 5;

Sec. 5, that portion north of the northerly right-of-way boundary for U.S. Highway 50;

Sec. 6, that portion north of the northerly right-of-way boundary for U.S. Highway 50.

T. 17 N, R. 34 E,

Sec. 3, lots 3 and 4, S½NW¼ and SW¼;

Secs. 4 thru 9;

Sec. 10, W½;

Sec. 15, W½;

Secs. 16 thru 21;

Sec. 22, W½;

Sec. 27, W½;

Secs. 28 thru 33;

Sec. 34, W½.

T. 18 N, R. 34 E,

Sec. 3;

Sec. 4, that portion east of the easterly right-of-way boundary for State Route 121;

Sec. 9, that portion east of the easterly right-of-way boundary for State Route 121;

Secs. 10 and 15;

Sec. 16, that portion east of the easterly right-of-way boundary for State Route 121;

Sec. 19, that portion south of Elevenmile Canyon Wash;

Sec. 20, that portion south of Elevenmile Canyon Wash;

Sec. 21, that portion east of the easterly right-of-way boundary for State Route 121 and that portion south of Elevenmile Canyon Wash;

Sec. 22;

Secs. 27 thru 34.

T. 19 N, R. 34 E,

Sec. 3;

Sec. 4, that portion east of the easterly right-of-way boundary for State Route 121;

Sec. 9, that portion east of the easterly right-of-way boundary for State Route 121;

Secs. 10 and 15;

Sec. 16, that portion east of the easterly right-of-way boundary for State Route 121;

Sec. 21, that portion east of the easterly right-of-way boundary for State Route 121;

Secs. 22 and 27;

Sec. 28, that portion east of the easterly right-of-way boundary for State Route 121;

Sec. 33, that portion east of the easterly right-of-way boundary for State Route 121;

Sec. 34.

T. 20 N, R. 34 E, partly unsurveyed,

Sec. 2, lots 2 thru 4, SW¼NE¼, S½NW¼, SW¼, and W½SE¼;

Sec. 3, lot 1, SE¼NE¼, E½SE¼;

Sec. 10, E½NE¼ and E½SE¼;

Sec. 11, W½NE¼, W½SE¼ and W½;

Sec. 26, W½NE¼, W½SE¼ and W½;

Sec. 27;

Sec. 28, that portion east of the easterly right-of-way boundary for State Route 121;

Sec. 33, that portion east of the easterly right-of-way boundary for State Route 121;

Sec. 34.

T. 21 N, R. 34 E,

Sec. 25, lots 1 and 2, W½NE¼ and NW¼.

T. 21 N, R. 35 E,

Sec. 17, W½, except patented lands;

Sec. 18, lots 5 thru 11 and E½SE¼SE¼NE¼.

The area described for Dixie Valley Training Area aggregates 68,804.44 acres in Churchill County.

Jurisdiction for the decision on this withdrawal proposal lies with the Secretary of the Interior, or an appropriate member of the Office of the Secretary, pursuant to Section 204 of FLPMA.

The BLM's withdrawal petition/application and the records relating to the petition/application can be examined at the BLM Carson City District Office, 5665 Morgan Mill Road, Carson City, Nevada 89701, during regular business hours (7:30 a.m., to 4:30 p.m.), Monday through Friday, except Federal holidays.

A copy of the legal descriptions and the maps depicting the lands proposed withdrawal for land management evaluation purposes are available for public inspection at the following offices:

State Director, BLM Nevada State Office, 1430 Financial Boulevard, Reno, Nevada 89502

District Manager, BLM Carson City District Office, 5665 Morgan Mill Road, Carson City, Nevada 89701

For a period until August 2, 2018 all persons who wish to submit comments, suggestions, or objections in connection with the proposed withdrawal may present their comments in writing to the persons and offices listed in the ADDRESSES section above.

All comments received will be considered before any final action is taken on the proposed withdrawal.

For the proposed 4-year withdrawal for LME purposes, the BLM is the lead agency for NEPA compliance and with this Notice invites public review of the EA. Because of the nature of a withdrawal of public lands from operation of the public land laws, including the mining laws, the mineral leasing laws, and the geothermal leasing laws, for land management evaluation purposes, subject to valid existing rights, where the purpose of the withdrawal is to maintain the status quo of the lands, mitigation of the withdrawal's effects is not likely to be an issue requiring detailed analysis. However, consistent with Council on Environmental Quality regulations implementing NEPA (40 CFR 1502.14), the BLM will consider whether and what kind of mitigation measures may be appropriate to address the reasonably foreseeable impacts to resources from the approval of this proposed withdrawal for land management evaluation purposes.

You may submit comments on the EA for LME purposes in writing to the BLM using one of the methods listed in the ADDRESSES section above. To be most helpful, you should submit comments by the date specified in the DATES section above. The BLM will use this NEPA public participation process to help satisfy the public involvement requirements under Section 106 of the National Historic Preservation Act (NHPA) (16 U.S.C. 470(f)) pursuant to 36 CFR 800.2(d)(3). The information about historic and cultural resources within the area potentially affected by the proposed withdrawal for LME purposes will assist the BLM in identifying and evaluating impacts to such resources in the context of both NEPA and Section 106 of the NHPA.

Comments including names and street addresses of respondents will be available for public review at the BLM address noted above, during regular business hours Monday through Friday, except Federal holidays. Before including your address, phone number, email address, or other personally identifiable information in your comment, you should be aware that your entire comment—including your personally identifiable information—may be publicly available at any time. While you can ask the BLM in your comment to withhold your personally identifiable information from public review, we cannot guarantee that we will be able to do so.

As the public land referenced in this Notice have already been segregated as described, licenses, permits, cooperative agreements, or discretionary land use authorizations may be allowed during the segregative period, but only with the approval of the authorized officer and, as appropriate, with the concurrence of the DON.

The proposed withdrawal will be processed in accordance with the regulations set forth in 43 CFR part 2300.

Authority: 43 CFR 2310.3-1

Michael C. Courtney,
Acting State Director, Nevada.

[FR Doc. 2018-09670 Filed 5-3-18; 8:45 am]

BILLING CODE 4310-HC-P